DEPARTMENT OF HEALTH AND HUMAN SERVICES

National Institutes of Health

National Institute on Aging; Amended Notice of Meeting

Notice is hereby given of a change in the meeting of the Neuroscience of Aging Review Committee, February 1, 2018, 8:00 a.m. to February 2, 2018, 2:00 p.m., Residence Inn Bethesda, 7335 Wisconsin Avenue, Bethesda, MD 20814 which was published in the Federal Register on January 3, 2018, 83 FR 386.

The meeting notice is amended to change the meeting location from Residence Inn Bethesda, 7335 Wisconsin Avenue, Bethesda, MD 20814 to Bethesda North Marriott Hotel & Conference Center, 5701 Marinelli Rd., Rockville MD 20852. The meeting is closed to the public.

Dated: January 29, 2018.
Melanie J. Pantoja,
Program Analyst, Office of Federal Advisory Committee Policy.

[FR Doc. 2018-02035 Filed 1-31-18; 8:45 am]

BILLING CODE 4140-01-P